PEACE CORPS

Agency Information Collection Activities: Proposed Collection Renewal; Comments Request

ACTION: 60-Day notice and request for comments.

SUMMARY: The Peace Corps will be submitting the following information collection request to the Office of Management and Budget (OMB) for extension, without change, of a currently approved information collection. In compliance with the Paperwork Reduction Act of 1995 (44 U.S.C. Chapter 35), the Peace Corps invites the general public to comment on the renewal, without change to Peace Corps Week Brochure (OMB Control No. 0420-0529). This process is conducted in accordance with 5 CFR 1320.10.

DATES: Comments must be submitted on or before October 19, 2010.

ADDRESSES: Comments should be addressed to Denora Miller, FOIA Officer, Peace Corps, 1111 20th Street, NW., Washington, DC 20526. Denora Miller can be contacted by telephone at 202-692-1236 or e-mail at pcfr@peacecorps.gov; mail to: ddunevant@peacecorps.gov. E-mail comments must be made in text and not in attachments.

FOR FURTHER INFORMATION CONTACT: Denora Miller, at Peace Corps address above.

SUPPLEMENTARY INFORMATION: Proposal to renew a currently approved collection of information:

OMB Control Number: 0420-0529.

Title: Peace Corps Week Brochure.

Type of Review: Extension, without change, of a currently approved information collection.

Respondents: Returned Peace Corps Volunteers and parents of currently serving Peace Corps Volunteers.

Respondents Obligation to Reply: Voluntary.

Burden to the Public:

a. Estimated total annual reporting burden: 500 hours.

c. Estimated average burden response: 3 minutes.

d. Frequency of response: Once.

e. Estimated number of likely respondents: 10,000.

General description of collection: Returned Peace Corps Volunteers and parents of currently serving Peace Corps Volunteers are sent a Peace Corps Week brochure which encourages them to officially speak to the American public about the Peace Corps and their service or that of their loved one serving to fulfill the agency's third goal (helping to promote a better understanding of other peoples on the part of Americans). This collection allows the Returned Volunteer Services Office to identify and provide support for interested people, promote these activities in local communities, and maintain address databases for future contact.

Request for Comments: Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

Dated: August 13, 2010.
Garry W. Stanberry,
Deputy Associate Director for Management.

[FR Doc. 2010-20640 Filed 8-19-10; 8:45 am]

BILLING CODE 6051-01-P